DEPARTMENT OF STATE

Bureau of Oceans, International Environmental and Scientific Affairs

[Public Notice No. 3475]

Public Meeting To Discuss Preparations for Negotiations on an International Agreement Through the United Nations Environment Program on Persistent Organic Pollutants

SUMMARY: The United States Government, through an interagency working group chaired by the U.S. Department of State, is preparing for the fifth and final negotiations through the United Nations Environment Program (UNEP) on a global agreement to address the release of certain persistent organic pollutants (POPs). The final negotiating session is scheduled to take place in Johannesburg, South Africa, on December 4-9, 2000. The Department of State will host a public meeting for environmental non-governmental organizations (NGOs) in advance of this session to outline issues likely to arise in the context of the negotiations. The public meeting will take place on Tuesday, November 21, 2000, from 11:00 a.m. to 12:30 p.m. in Room 7835 of the U.S. Department of State, 2201 C Street NW, Washington, DC. To expedite their entrance into the building, attendees should provide to Eunice Mourning of the Office of Environmental Policy, U.S. Department of State (tel. 202-647-9266, fax 202-647-5947) their name, organization, date of birth and Social Security number by noon on Monday, November 20, 2000. Attendees should enter the C Street entrance and bring picture identification with them. For further information, please contact Dr. Marie Ricciardone, U.S. Department of State, Office of Environmental Policy (OES/ENV), Room 4325, 2201 C Street NW, Washington DC 20520. Phone 202-736-4660, fax 202-647-5947, e-mail RicciardoneMD@state.gov.

SUPPLEMENTARY INFORMATION:

The UNEP POPs Negotiations

The POPs treaty is the first global treaty to address in a comprehensive manner the risks to human health and the environment of chemicals and other pollutants. The treaty will in the first instance deal with twelve substances: aldrin, endrin, hexachlorobenzene, toxaphene, chlordane, dieldrin, heptachlor, mirex, DDT, PCBs, dioxins and furans. These substances fall into three categories: Pesticides, industrial chemicals, and unintended by-products of combustion and industrial processes.

These global negotiations are an ambitious undertaking, since they encompass a broad range of measures to address POPs of transboundary concern. These range from controls on production and use for commercial chemicals, controls on POPs wastes, and controls on by-products that come from combustion and industrial processes. For many countries, this will be the first time that these substances have been controlled, and the effects are likely to be far-reaching.

Since the U.S. and other developed countries have already taken actions on these chemicals, a major goal for the agreement is broad participation by developing countries and, consequently, meaningful reductions in the amount of pollutants that are released into the environment. A critical part of the agreement will be technical and financial assistance mechanisms to help developing countries effectively implement their obligations.

Timetable and Point of Contact

The POPs Intergovernmental Negotiating Committee (INC) expects to complete its work at its fifth session in Johannesburg. In preparation for the fifth session of the INC, the State Department is preparing its position for the negotiation, and has scheduled a public meeting to be held on Tuesday, November 21, 2000 from 11:00 a.m. to 12:30 p.m. in Room 7835 of the U.S. Department of State. Members of the interagency working group who will participate in the proposed negotiation will provide an overview of U.S. preparations for the fifth session. The U.S. Department of State is issuing this notice to help ensure that interested and potentially affected parties are aware of and knowledgeable about these negotiations, and have an opportunity to offer comments. Those organizations or individuals which cannot attend the meeting, but wish to either submit a written comment or to remain informed, should provide Eunice Mourning of the Office of Environmental Policy, U.S. Department of State (phone 202-647-9266; fax 202-647-5947) with their statement and/or their name, organization, address, telephone and fax numbers, and their e-mail address.

Dated: November 14, 2000.
Bob Ford,
Deputy Director, Office of Environmental Policy, U.S. Department of State.

[FR Doc. 00-29519 Filed 11-16-00; 8:45 am]

BILLING CODE 4710-06-P